DEPARTMENT OF HEALTH AND HUMAN SERVICES

Agency for Toxic Substances and Disease Registry

[60Day-20-0055; Docket No. ATSDR-2020-0001]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other Federal agencies the opportunity to comment on a proposed and/or continuing information collection, as required by the Paperwork Reduction Act of 1995. This notice invites comment on an extension of an existing information collection titled “ATSDR Communication Activities Survey (ACAS)” which will continue to be used to assess the effectiveness of ATSDR site team members as they engage and inform members of communities in providing effective, clear, and consistent communication and information about protecting communities from environmental hazards.

DATES: ATSDR must receive written comments on or before June 2, 2020.

ADDRESSES: You may submit comments, identified by Docket No. ATSDR-2020-0001 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. ATSDR will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

ATSDR Communication Activities Survey (ACAS) (OMB Control No. 0923-0055, Exp. 6/30/2020)—Extension—Agency for Toxic Substances and Disease Registry (ATSDR).

Background and Brief Description

The Agency for Toxic Substances and Disease Registry (ATSDR) serves the public through responsive public health actions to promote healthy and safe environments and to prevent harmful exposures. The agency aims to work effectively with communities in proximity to hazardous waste sites by listening to and understanding their health concerns and seeking their guidance on where, when, and how to take public health actions.

Community members are key participants in the agency's public health assessment process and should be actively involved in decisions that impact their community. Thus, agency's goals for this extension information collection request (ICR) titled the “ATSDR Communication Activities Survey (ACAS)” (OMB Control No. 0923-0055, expiration date 06/30/2020) are to continue to ascertain the effectiveness of, and to assess the differences and the consistency of, the delivery of ATSDR activities and respondent perceptions across sites and over time. ATSDR will use the ACAS to: (1) Determine how effectively it's site teams engage community members; (2) discover how well ATSDR provides effective, clear, and consistent communication and information on how to promote healthy and safe environments; (3) understand whether the agency's activities are helping the communities address environmental issues; and (4) improve ATSDR's activities to make a greater impact within the communities served. During 2018, ATSDR implemented the ATSDR Community Activities Survey (ACAS) to evaluate its risk communication efforts. One hundred and twenty-five surveys were collected from seven sites (62% paper/38% online).

Over the next three years, recruitment will continue to occur at communities where ATSDR and state or local agencies have implemented site activities to address environmental issues. For each engaged community, the ACAS will be used to assess a set of effectiveness indicators for ATSDR site-specific activities about the respondents' involvement, knowledge, satisfaction, observations, and opinions about ATSDR's community engagement and educational outreach efforts to inform communities. The indicators will measure ATSDR effectiveness in the following respondent areas: (1) Their involvement with the site activities; (2) how they received, and prefer to receive, ATSDR information; (3) their knowledge and understanding of ATSDR site activities and how to reduce hazardous exposures; (4) their observations and opinions of ATSDR's role in community preparedness; (5) their self-evaluation on their risk of exposure to possible environmental hazards; (6) their demographic profile; (7) their environmental concerns; and (8) any additional feedback.

ATSDR is seeking a three-year Paperwork Reduction Act clearance for this extension ICR. ATSDR anticipates that approximately six to seven sites will be engaged for feedback per year (or about 20 sites over the next three years). Each year, ATSDR will recruit approximately 167 individuals per year, aged 18 and older, to participate in the ACAS where ATSDR is holding public community meetings. Therefore, respondents will include approximately 24 to 28 community members and agency stakeholders per meeting (six to seven meetings per year). The community members may include, but are not limited to, the general public, community leaders, faith-based leaders, and business leaders. The agency stakeholders may include, but are not limited to, state and local environmental health department employees, such as environmental health assessors, toxicologists, and departmental officials. The mix of respondents will be approximately 75% community members (n=125 per year) and 25% agency stakeholders (n=42 per year).

Trained ATSDR contractors will have a table set up at the entrance of the community meeting where community meeting attendees will pick up a fact sheet which explains what ATSDR does, and the purpose of ATSDR's site activities and the survey. At the end of ATSDR public community meetings, there will be an announcement to ask interested attendees to take the survey. All interested attendees will sign in and provide their contact information, their preferred mode for taking the survey (in-person, online or over the phone), and whether they are a community member or an agency stakeholder. The ACAS will preferably be self-administered right after the public community meetings. If this is not a convenient time for the respondent, the ACAS may be completed online or by phone. We estimate that approximately 80% of respondents will choose the self-administered ACAS, 15% will choose the online ACAS, and 5% will choose the telephone ACAS.

There are no costs to the respondents other than their time. There are no changes to the estimated number of respondents, and the total annual time burden requested remains at 49 hours per year.

Estimated Annualized Burden Hours
Type of respondents | Form name | Number of respondents | Number of responses per respondent | Average burden per response (in hours.) | Total burden (in hours.)
Community Members | Sign In Sheet | 125 | 1 | 2/60 | 4
| Hardcopy ACAS | 100 | 1 | 15/60 | 25
| Online ACAS | 19 | 1 | 15/60 | 5
| Telephone ACAS | 6 | 1 | 15/60 | 2
Agency Stakeholders | Sign In Sheet | 42 | 1 | 2/60 | 1
| Hardcopy ACAS | 34 | 1 | 15/60 | 9
| Online ACAS | 6 | 1 | 15/60 | 2
| Telephone ACAS | 2 | 1 | 15/60 | 1
Total |  |  |  |  | 49

Jeffrey M. Zirger,
Lead, Information Collection Review Office, Office of Scientific Integrity, Office of Science, Centers for Disease Control and Prevention.

[FR Doc. 2020-06940 Filed 4-2-20; 8:45 am]

BILLING CODE 4163-18-P